DEPARTMENT OF LABOR

Employment and Training Administration

[TA-W-73,072]

Android Industries Belvidere, LLC, Including On-Site Leased Workers From QPS Employment Group, Spherion Corporation, and Staff on Site, Belvidere, IL; Amended Certification Regarding Eligibility To Apply for Worker Adjustment Assistance

In accordance with Section 223 of the Trade Act of 1974, as amended (“Act”), 19 U.S.C. 2273, the Department of Labor issued a Certification of Eligibility to Apply for Worker Adjustment Assistance on July 1, 2010, applicable to workers of Android Industries Belvidere, LLC, including on-site leased workers from QPS Employment Group and Spherion Corporation, Belvidere, Illinois. The workers produce engines and instrument panels for automobiles. The notice was published in the Federal Register on July 16, 2010 (75 FR 41526).

At the request of the State agency, the Department reviewed the certification for workers of the subject firm. The company reports that workers leased from Staff on Site were employed on-site at the Belvidere, Illinois location of Android Industries Belvidere, LLC. The Department has determined that these workers were sufficiently under the control of Android Industries Belvidere, LLC to be considered leased workers.

Based on these findings, the Department is amending this certification to include workers leased from Staff on Site working on-site at the Belvidere, Illinois location of Android Industries Belvidere, LLC.

The amended notice applicable to TA-W-73,072 is hereby issued as follows:

All workers of Android Industries, Belvidere, LLC, including on-site leased workers from QPS Employment, Spherion Corporation and Staff on Site, Belvidere, Illinois, who became totally or partially separated from employment on or after December 9, 2008, through July 1, 2012, and all workers in the group threatened with total or partial separation from employment on the date of certification through two years from the date of certification, are eligible to apply for adjustment assistance under Chapter 2 of Title II of the Trade Act of 1974, as amended.

Signed at Washington, DC, this 12th day of December 2011.
Del Min Amy Chen,
Certifying Officer, Office of Trade Adjustment Assistance.

[FR Doc. 2011-32611 Filed 12-20-11; 8:45 am]

BILLING CODE 4510-FN-P